DEPARTMENT OF DEFENSE

Office of the Secretary

[Docket ID: DoD-2023-HA-0126]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 20, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DHA, 7700 Arlington Blvd., Falls Church, VA 22042, Amanda Grifka, 703-681-1771.

SUPPLEMENTARY INFORMATION:

Title; Associated Form; and OMB Number: Knowledge, attitudes, and practices on Coronavirus Disease of 2019 (COVID-19) vaccination among service members and medical beneficiaries; OMB Control Number 0720-VACC.

Needs and Uses: Although a safe and effective vaccine against COVID-19 is available and approved by the United States Food and Drug Administration, there is no guarantee that people who would benefit from the vaccine will agree to take it. Vaccine hesitancy, the concern about vaccination of oneself or of one's children, has been increasing in the U.S. and could present a barrier to widespread vaccination against COVID-19. COVID-19, the disease caused by severe acute respiratory syndrome coronavirus 2, has an adverse effect on combat readiness. The proposed project aims to assist the DoD in ongoing service-wide COVID-19 vaccination program through surveying the knowledge, attitudes, and practices of a population of service members and medical beneficiaries at a large military base in the United States: Joint Base Lewis McChord (JBLM) in Washington state. The project will leverage existing partnerships between medical and public health personnel at Madigan Army Medical Center, the Military HIV Research Program at Walter Reed Army Institute of Research, and the Henry M. Jackson Foundation to rapidly implement and complete the project. The study population will be active-duty personnel and medical beneficiaries of the Military Health System aged 18 and over at JBLM.

Affected Public: Individuals or households.

Annual Burden Hours: 250.

Number of Respondents: 1,000.

Responses per Respondent: 1.

Annual Responses: 1,000

Average Burden per Response: 15 minutes.

Frequency: On occasion.

Dated: December 15, 2023.
Aaron T. Siegel,
Alternate OSD Federal Register Liaison Officer, Department of Defense.

[FR Doc. 2023-28084 Filed 12-20-23; 8:45 am]

BILLING CODE 6001-FR-P